FEDERAL COMMUNICATIONS COMMISSION

47 CFR Part 15

[ET Docket No. 03-237; FCC 07-78]

Interference Temperature Operation

AGENCY: Federal Communications Commission.

ACTION: Termination of proceeding.

SUMMARY: This document terminates the “Interference Temperature Model for Quantifying and Managing Interference” proceeding. While there was some support in the record for adopting an interference temperature approach, no parties provided information on specific technical rules that we could adopt to implement it. Further, with the passage of time, the NOI/NPRM and the record in this proceeding have become outdated. The Commission is therefore terminating this proceeding without prejudice to its substantive merits.

DATES: This proceeding is terminated as of May 4, 2007.

FOR FURTHER INFORMATION CONTACT: Hugh VanTuyl, Policy and Rules Division, Office of Engineering and Technology, (202) 418-7506, e-mail Hugh.VanTuyl@fcc.gov.

SUPPLEMENTARY INFORMATION: This is a summary of the Commission's Order, ET Docket No. 03-237, FCC 07-78, adopted May 2, 2007 and released May 4, 2007. The full text of this document is available on the Commission's Internet site at www.fcc.gov. It is also available for inspection and copying during regular business hours in the FCC Reference Center (Room CY-A257), 445 12th Street, SW., Washington, DC 20554. The full text of this document also may be purchased from the Commission's duplication contractor, Best Copy and Printing Inc., Portals II, 445 12th Street, SW., Room CY-B402, Washington, DC 20554; telephone (202) 488-5300; fax (202) 488-5563; e-mail FCC@BCPIWEB.COM.

Summary of the Order

1. On November 13, 2003, the Commission adopted a Notice of Inquiry and Notice of Proposed Rule Making (NOI/NPRM), 69 FR 2863, January 21, 2004, in this proceeding. The NOI/NPRM sought comment on the need for, development of, and implementation of, a new “interference temperature” model for managing interference. That approach would shift the current method of assessing interference which is based on transmitter operations, to an approach that takes into account the cumulative effects of all undesired radiofrequency energy, i.e., energy that may result in interference from both transmitters and noise sources, that is present at a receiver at any instance of time. The NOI/NPRM also sought comment on establishing interference temperature limits and procedures for assessing interference temperature in the 6525-6700 MHz band and portions of the 12.75-13.25 GHz band.

2. Commenting parties generally argued that the interference temperature approach is not a workable concept and would result in increased interference in the frequency bands where it would be used. While there was some support in the record for adopting an interference temperature approach, no parties provided information on specific technical rules that we could adopt to implement it. Further, with the passage of time, the NOI/NPRM and the record in this proceeding have become outdated. The Commission is therefore terminating this proceeding without prejudice to its substantive merits.

3. The Commission will not send a copy of this Order in a report to be sent to Congress and the Government Accountability Office pursuant to the Congressional Review Act, see 5 U.S.C. 801(a)(1)(A), because the Order does not adopt any rules it only terminates the proceeding.

Ordering Clauses

4. Pursuant to sections 4(i) and 4(j) of the Communications Act, 47 U.S.C. sections 154(i) and 154(j), ET Docket No. 03-237 is terminated, as of May 4, 2007.

Federal Communications Commission
Marlene H. Dortch,
Secretary.

[FR Doc. E7-10337 Filed 5-29-07; 8:45 am]

BILLING CODE 6712-01-P